DEPARTMENT OF ENERGY

Federal Energy Regulatory Commission

[Project No. 15306-000]

Premium Energy Holdings, LLC; Notice of Preliminary Permit Application Accepted for Filing and Soliciting Comments, Motions To Intervene, and Competing Applications

On March 15, 2023, Premium Energy Holdings, LLC, filed an application for a preliminary permit, pursuant to section 4(f) of the Federal Power Act (FPA), proposing to study the feasibility of the to be located approximately 40 miles northeast of the City of Bakersfield in Kern County, California. The proposed project would occupy Federal land managed by the Bureau of Land Management and the U.S. Forest Service. The sole purpose of a preliminary permit, if issued, is to grant the permit holder priority to file a license application during the permit term. A preliminary permit does not authorize the permit holder to perform any land-disturbing activities or otherwise enter upon lands or waters owned by others without the owners' express permission.

The proposed project would use the existing 568,000-acre-foot Isabella Reservoir, operated by the U.S. Army Corps of Engineers, as its lower reservoir and would include one of three new upper reservoir alternatives: Fay Reservoir, Cane Reservoir, and Erskine Reservoir.

The Fay Reservoir Alternative would consist of the following new facilities: (1) a 135-acre Fay Reservoir with a storage capacity of 19,073 acre-feet at a maximum surface elevation of 5,960 feet above mean sea level (msl); (2) a 1,814-foot-long, 650-foot-high roller compacted concrete dam; (3) a 0.89-mile-long, 26-foot-diameter concrete-lined headrace tunnel; (4) a 0.21-mile-long, 23-foot-diameter concrete-lined vertical shaft; (5) a 6.22-mile-long, 23-foot-diameter concrete-lined horizontal shaft; (6) five 0.09-mile-long, 15-foot-diameter penstocks; (7) a 500-foot-long, 125-foot-wide, 150-foot-high concrete powerhouse containing five pump-turbine generator units rated at 560 megawatts each; (8) a 1.29-mile-long, 28-foot-diameter tailrace tunnel; and (9) appurtenant facilities. The average annual energy production of the proposed project is estimated to be approximately 6,900 gigawatt-hours.

The Cane Reservoir Alternative would consist of the following new facilities: (1) a 185-acre Cane Reservoir with a storage capacity of 29,770 acre-feet at a maximum surface elevation of 4,740 feet msl; (2) a 3,167-foot-long, 470-foot-high roller compacted concrete dam; (3) a 0.53-mile-long, 32-foot-diameter concrete-lined headrace tunnel; (4) a 0.12-mile-long, 29-foot-diameter concrete-lined vertical shaft; (5) a 3.66-mile-long, 29-foot-diameter concrete-lined horizontal shaft; (6) five 0.05-mile-long, 18-foot-diameter penstocks; (7) a 500-foot-long, 125-foot-wide, 150-foot-high concrete powerhouse containing five pump-turbine generator units rated at 560 megawatts each; (8) a 0.76-mile-long, 34-foot-diameter tailrace tunnel; and (9) appurtenant facilities. The average annual energy production of the proposed project is estimated to be approximately 6,900 gigawatt-hours.

The Erskine Reservoir Alternative would consist of the following new facilities: (1) a 400-acre Erskine Reservoir with a storage capacity of 34,459 acre-feet at a maximum surface elevation of 4,500 feet msl; (2) a 2,685-foot-long, 370-foot-high roller compacted concrete dam; (3) a 0.92-mile-long, 34-foot-diameter concrete-lined headrace tunnel; (4) a 0.21-mile-long, 30-foot-diameter concrete-lined vertical shaft; (5) a 6.44-mile-long, 30-foot-diameter concrete-lined horizontal shaft; (6) five 0.09-mile-long, 19-foot-diameter penstocks; (7) a 500-foot-long, 125-foot-wide, 150-foot-high concrete powerhouse containing five pump-turbine generator units rated at 560 megawatts each; (8) a 1.34-mile-long, 36-foot-diameter tailrace tunnel; and (9) appurtenant facilities. The average annual energy production of the proposed project is estimated to be approximately 6,900 gigawatt-hours.

The proposed project would interconnect to the grid at either Southern California Edison's Kernville-Isabella or Isabella-Weldon transmission lines via a 26- to 28-mile-long 500-kilovolt project transmission line.

Applicant Contact: Mr. Victor Rojas, Premium Energy Holdings, LLC, 355 South Lemon Ave., Suite A, Walnut, CA 91789; victor.rojas@pehllc.net; phone: (909) 595-5314.

FERC Contact: Everard Baker; email: everard.baker@ferc.gov; phone: (202) 502-8554.

Deadline for filing comments, motions to intervene, competing applications (without notices of intent), or notices of intent to file competing applications: 60 days from the issuance of this notice. Competing applications and notices of intent must meet the requirements of 18 CFR 4.36.

The Commission's Office of Public Participation (OPP) supports meaningful public engagement and participation in Commission proceedings. OPP can help members of the public, including landowners, environmental justice communities, Tribal members, and others, access publicly available information and navigate Commission processes. For public inquiries and assistance with filings such as interventions, comments, or requests for rehearing, the public is encouraged to contact OPP at (202) 502-6595 or OPP@ferc.gov.

The Commission strongly encourages electronic filing. Please file comments, motions to intervene, notices of intent, and competing applications using the Commission's eFiling system at https://ferconline.ferc.gov/FERCOnline.aspx. Commenters can submit brief comments up to 6,000 characters, without prior registration, using the eComment system at https://ferconline.ferc.gov/.aspx. You must include your name and contact information at the end of your comments. For assistance, please contact FERC Online Support at FERCOnlineSupport@ferc.gov, (866) 208-3676 (toll free), or (202) 502-8659 (TTY). In lieu of electronic filing, you may submit a paper copy. Submissions sent via the U.S. Postal Service must be addressed to: Secretary Kimberly Bose, Federal Energy Regulatory Commission, 888 First Street NE, Washington, DC 20426. Submissions sent via any other carrier must be addressed to: Kimberly D. Bose, Secretary, Federal Energy Regulatory Commission, 12225 Wilkins Avenue, Rockville, Maryland 20852. The first page of any filing should include docket number P-15306-000.

More information about this project, including a copy of the application, can be viewed or printed on the “eLibrary” link of Commission's website at http://www.ferc.gov/docs-filing/elibrary.asp. Enter the docket number (P-15306) in the docket number field to access the document. For assistance, contact FERC Online Support.

Dated: June 11, 2024.
Debbie-Anne A. Reese,
Acting Secretary.

[FR Doc. 2024-13286 Filed 6-14-24; 8:45 am]

BILLING CODE 6717-01-P